FEDERAL DEPOSIT INSURANCE CORPORATION

Designated Reserve Ratio for 2013

AGENCY: Federal Deposit Insurance Corporation (FDIC).

ACTION: Notice of Designated Reserve Ratio for 2013.

Pursuant to the Federal Deposit Insurance Act, the Board of Directors of the Federal Deposit Insurance Corporation designates that the Designated Reserve Ratio (DRR) for the Deposit Insurance Fund shall remain at 2 percent for 2013.¹ The Board is publishing this notice as required by section 7(b)(3)(A)(i) of the Federal Deposit Insurance Act (12 U.S.C. 1817(b)(3)(A)(i)).

¹ Section 327.4(g) of the FDIC's regulations sets forth the DRR. There is no need to amend this provision, because the DRR for 2013 is the same as the current DRR.

FOR FURTHER INFORMATION CONTACT: Munsell St. Clair, Chief, Banking and Regulatory Policy Section, Division of Insurance and Research, (202) 898-8967; Alan Deaton, Acting Chief, Fund Analysis and Pricing Section, Division of Insurance and Research, (202) 898-3828; or, Christopher Bellotto, Counsel, Legal Division, (202) 898-3801.

By order of the Board of Directors. Federal Deposit Insurance Corporation.
Dated at Washington, DC, this 11th day of December, 2012.
Robert E. Feldman,
Executive Secretary.

[FR Doc. 2012-30253 Filed 12-14-12; 8:45 am]

BILLING CODE 6714-01-P